DEPARTMENT OF HOMELAND SECURITY

Coast Guard

33 CFR Part 117

[Docket No. USCG-2013-0922]

Drawbridge Operation Regulation; Gulf Intracoastal Waterway, Near Moss Lake, LA

AGENCY: Coast Guard, DHS.

ACTION: Notice of deviation from drawbridge regulation.

SUMMARY: The Coast Guard has issued a temporary deviation from the operating schedule that governs the Black Bayou pontoon bridge across the Gulf Intracoastal Waterway, mile 237.5, near Moss Lake, Louisiana. The deviation is necessary in order to drive piles for 2 sheave platforms, 2 winch platforms, a walkway, and a hydraulic unit housing platform. These repairs are essential for the continued safe operation of the bridge. This deviation allows the bridge to remain temporarily closed to navigation during daylight for ten consecutive hours, Monday through Thursday for three weeks.

DATES: This deviation is effective without actual notice from December 4, 2013 until December 19, 2013. For the purposes of enforcement, actual notice will be used from the date the deviation was signed, November 14, 2013, until December 19, 2013.

ADDRESSES: The docket for this deviation, [USCG-2013-0922] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Donna Gagliano, Bridge Administration Branch, Coast Guard; telephone 504-671-2128, email Donna.Gagliano@uscg.mil. If you have questions on viewing the docket, call Barbara Hairston, Program Manager, Docket Operations, telephone 202-366-9826.

SUPPLEMENTARY INFORMATION: The Louisiana Department of Transportation and Development has requested a temporary deviation from the operating schedule on the pontoon bridge across the Gulf Intracoastal Waterway at mile 237.5 near Moss Lake, Louisiana.

In accordance with 33 CFR 117.5, except as otherwise authorized or required by this part, drawbridges must open promptly and fully for the passage of vessels when a request or signal to open is given in accordance with this subpart. The draw bridge must return to operation when the work has stopped for any reason. This temporary deviation allows the pontoon bridge to remain closed to navigation from 7 a.m. to 5 p.m., Monday through Thursday, during 3 weeks beginning December 2, 2013 through Thursday, December 19, 2013, for a total of 12 days. During this time, repairs will be performed, including driving piles for 2 sheave platforms, 2 winch platforms, a walkway and a hydraulic unit housing platform. The repairs are necessary to ensure the safety of the bridge. Notices will be published in the Eighth Coast Guard District Local Notice to Mariners and will be broadcast via the Coast Guard Broadcast Notice to Mariners System.

Navigation on the waterway consists of commercial and recreational fishing vessels, small to medium crew boats, and small tugs with and without tows. No alternate routes are available for the passage of vessels; however, the closure was coordinated with waterway interests who have indicated that they will be able to adjust their operations around the proposed work schedule. The bridge will be able to open manually in the event of an emergency, but it will take about one hour to do so.

In accordance with 33 CFR 117.5, the draw bridge must return to its regular operating schedule immediately at the end of the effective period of this temporary deviation. This deviation from the operating regulations is authorized under 33 CFR 117.5

Dated: November 14, 2013.
David M. Frank,
Bridge Administrator.

[FR Doc. 2013-29012 Filed 12-3-13; 8:45 am]

BILLING CODE 9110-04-P